DEPARTMENT OF TRANSPORTATION

Federal Aviation Administration

Notice of Availability of Record of Decision (ROD) on Final Environmental Impact Statement (FEIS) for Master Plan Development Including Runway Safety Area Enhancement/Extension of Runway 12-30 and Other Improvements at Gary/Chicago International Airport Located in Gary, IN

AGENCY: , Federal Aviation Administration (FAA) DOT.

ACTION: Notice of availability.

SUMMARY: The Federal Aviation Administration (FAA) is issuing this notice to advise the public that a Record of Decision (ROD) has been approved and issued for the Final Environmental Impact Statement (FEIS)—Master Plan Development Including Runway Safety Area Enhancement/Extension of Runway 12-30 and Other Improvements, Gary/Chicago International Airport. Written requests for the ROD can be submitted to the individual listed in the section FOR FURTHER INFORMATION CONTACT. The Record of Decision was approved on March 17, 2005.

Public Availability: Copies of the Record of Decision and the Final Environemtnal Impact Statement (the environmental document on which the decision is based) are available for public information review during regular business hours at the following locations:

1. Gary/Chicago International Airport, 6001 West Industrial Highway, Gary, Indiana 46406.

2. Chicago Airports District Office, Room 312, Federal Aviation Administration, 2300 East Devon Avenue, Des Plaines, Illinois 60018.

3. Gary Public Library, 220 West 5th Avenue, Gary, Indiana 46402.

4. Hammond Public Library, 564 State Street, Hammond, Indiana 46320.

5. East Chicago Main Library, 2401 East Columbus Drive, East Chicago, Indiana 46312.

6. IU Northwest Library, 3400 Broadway, Gary Indiana 46408.

7. Lake County Main Library, 1919 West 81st Avenue, Merrillville, Indiana 46410-5382.

8. Purdue Calumet Library, 2200 169th Street, Hammond, Indiana 46323-2094.

9. Whiting Library, 1735 Oliver Street, Whiting, Indiana 46394.

FOR FURTHER INFORMATION CONTACT: Prescott C. Snyder, Airports Environmental Program Manager, Federal Aviation Administration, Airports Division, Room 315, 2300 East Devon Avenue, Des Plaines, Illinois 60018. Mr. Snyder can be contacted at (847) 294-7538 (voice), (847) 294-7036 (facsimile) or by e-mail at 9-AGL-GYY-EIS-Project@faa.gov.

SUPPLEMENTARY INFORMATION: At the request of the Gary/Chicago Airport Authority, the FAA prepared an Environemtnal Impact Statement, which has now culminated in FAA issuing a Record of Decision. The environmental process summarized in the Record of Decision addressed specific improvements at the Gary/Chicago International Airport as identified during the 2001 Airport Master Plan process and the 2003 Railroad Relocation Study, and shown on the 2001 Airport Layout Plan. The following improvements have been grouped into four categories and are identified as ripe for review and decision: (1) Improvements associated with the existing Runway 12-30, the primary air carrier runway at the airport, relocate the E.J. & E. Railroad, acquire land northwest of the airport to allow for modifications to the runway safety area, relocate the airside perimeter roadway (including providing a southwest access roadway), relocate the Runway 12-30 navaids, improve the Runway Safety Area for Runway 12, relocate the Runway 12 threshold to remove prior displacement, and acquire land southeast of the airport, located within or immediately adjacent to the runway protection zone; (2) Extension of Runway 12-30, (1356 feet), relocate the Runway 12-30 navaids, extend parallel taxiway A to the new end of Runway 12, construct deicing hold pads on Taxiway A at Runway 12 and Runway 30, and develop two high-speed exit taxiways; (3) Expansion of the existing passenger terminal to accommodate current needs and forecast growth; and (4) acquisition/ reservation and remediation as necessary site areas for potential aviation related development, but not including approval of construction new passenger terminal and air cargo facilities, which would be subject to separate environmental analysis and approval.

The purpose and need for these improvements is found in the FEIS and summarized in the Record of Decision. All reasonable alternatives have been considered including the no-action alternative. The Federal Aviation Administration's proposed actions in addition to the issuance of an environmental finding are:

A. Environmental approval under existing or future FAA criteria of project eligibility for Federal grant-in-aid funds (49 U.S.C. 47101 et. seq.) and/or Passenger Facility Charges (49 U.S.C. 40117), that include the elements as set forth in the FEIS, subject to the conditions set forth under “FAA Determination” in Chapter 1 of the Record of Decision as well as the restrictions set forth in Paragraph 583.b of FAA Order 5100.38B (“the AIP Handbook”):

B. Unconditional approval of a revised ALP, based on determinations through the aeronautical study process regarding obstructions to navigable airspace, and no FAA objection to the airport development proposal from an airspace perspective. Not included in this approval of the revised ALP are the following airport improvements shown on the ALP that require future environmental processing:

1. Construction of the south parallel taxiway to Runway 12-30

2. Future cargo area development (aprons, taxiways, auto parking lots, buildings, etc.) south of the end of extended Runway 12

3. Future passenger terminal area development (aprons, taxiways, auto parking lots, buildings, etc.) north of the end of extended Runway 12

4. Partial dual taxiway north of extended Taxiway A from Taxiway A to the proposed passenger terminal area

5. Proposed maintenance facility (Boeing Hangar) expansion

C. Approval for relocation and/or upgrade of various navigational aids. Also, the establishment or modification of existing instrument approach procedures by the National Flight Procedures Office for aircraft using instrument procedures to Runway 30.

D. Review and subsequent approval of an amended Airport Certification Manual for Gary/Chicago International Airport (per 14 CFR part 139).

Issued in Des Plaines, Illinois, on March 17, 2005.
Larry H. Ladendorf,
Assistant Manager, Airports Division, FAA, Great Lakes Region.

[FR Doc. 05-5840 Filed 3-23-05; 8:45 am]

BILLING CODE 4910-13-M